DEPARTMENT OF TRANSPORTATION

Federal Aviation Administration

[Docket No.: FAA-2023-0474]

Agency Information Collection Activities: Requests for Comments; Clearance of Approval of Continuing Information Collection: Privacy International Civil Aviation Organization (ICAO) Address (PIA)

AGENCY: Federal Aviation Administration (FAA), DOT.

ACTION: Notice and request for comments.

SUMMARY: In accordance with the Paperwork Reduction Act of 1995, the FAA invites public comments about their intention to request Office of Management and Budget (OMB) approval to renew an information collection. The Federal Register Notice with a 60-day comment period soliciting comments on the following collection of information was published on February 28, 2023. The collection involves an aircraft operator's request for a privacy ICAO address through a web-based application process. The information to be collected is necessary to qualify for the authorized use of the privacy ICAO address services and for monitoring to support continued airworthiness and enforcement activities.

DATES: Written comments should be submitted by May 31, 2023.

ADDRESSES: Written comments and recommendations for the proposed information collection should be sent within 30 days of publication of this notice to www.reginfo.gov/public/do/PRAMain. Find this particular information collection by selecting “Currently under 30-day Review—Open for Public Comments” or by using the search function.

By mail: Send comments to FAA at the following address: Mr. Evan Setzer, Program Manager, Service and Broadcast Services (AJM-42), Program Management Organization, Federal Aviation Administration, 600 Independence Ave. SW, Wilbur Wright Building, Washington, DC 20597.

FOR FURTHER INFORMATION CONTACT: For technical questions concerning this action, contact Mr. Jamal Wilson, Surveillance and Broadcast Services, AJM-42, PIA Project Lead at jamal.wilson@faa.gov or by phone at (202) 267-4301.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0779.

Title: Privacy International Civil Aviation Organization (ICAO) Address (PIA).

Form Numbers: Not applicable.

Type of Review: Renewal of an information collection.

Background: The Federal Register Notice with a 60-day comment period soliciting comments on the following collection of information was published on February 28, 2023 (88 FR 12715). In 2010, the FAA issued a final rule mandating equipage requirements and performance standards for Automatic Dependent Surveillance-Broadcast (ADS-B) Out avionics on aircraft operating in certain airspace after December 31, 2019. Aircraft operators must be equipped with ADS-B Out to fly in most controlled airspace. Federal Regulations 14 CFR 91.225 and 14 CFR 91.227 contain requirement details. Each registered aircraft is assigned an aircraft registration number and an ICAO 24-bit aircraft address. This is also referred to as a “Mode S Code” in some FAA documents and websites, including the FAA Aircraft Registry. Where a 1090-MHz Extended Squitter (1090ES) transponder is required for ADS-B Out compliance, this ICAO 24-bit aircraft address, based on current transponder avionics standards, is openly broadcasted on the 1090 MHz frequency in transponder replies and ADS-B messages. Subsequently, the nature of openly broadcasting makes the identity of the aircraft publicly available. Industry stakeholders have long suggested that FAA develop a process for aircraft operators who seek anonymity such that their aircraft movements and identity cannot be traced or seen by privately owned sensors that monitor the 1090 MHz frequency and combine this with other downlinked ADS-B and Mode S data being disseminated using the internet. The FAA intends to develop a process for operators who wish to mask their aircraft movements and identity for a period while flying within the sovereign airspace of the United States. Participation in the assignment of privacy ICAO Code addresses is voluntary. Only U.S. registered aircraft can be assigned a privacy ICAO aircraft address. No operator can use a privacy ICAO aircraft address for a U.S.-registered aircraft unless that operator is authorized to use a third-party flight identification for that same aircraft. No unique privacy ICAO address will be assigned to more than one U.S.-registered aircraft at any given time. Once approved, the operator will be assigned a privacy ICAO address. The operator will be required to notify the FAA when their avionics have been loaded with the assigned temporary ICAO 24-bit aircraft address. Owners and operators must verify that the ICAO 24-bit aircraft address (Mode S code) broadcast by their ADS-B equipment matches the assigned privacy ICAO address for their aircraft. Operators can verify what ICAO 24-bit aircraft address is being broadcast by their aircraft by visiting: https://adsbperformance.faa.gov/PAPRRequest.aspx. For monitoring privacy ICAO address use, the information will be downloaded by the FAA and entered into the FAA's ADS-B Performance Monitor [Docket No. FAA-2017-1194 published in Federal Register, December 20, 2017, as Document Number: 2017-27202].

Respondents: Intended for operators who seek anonymity such that their aircraft movements and identity cannot be easily traced or seen by privately owned sensors that monitor the 1090 MHz frequency. FAA estimates up to 15,000 respondents.

Frequency: Frequency will be occasional based on specific scenarios. An operator can change privacy ICAO aircraft addresses, but no more often than once every 20 days. In the event real-world security concerns become evident, an operator can elect to change their PIA address sooner than 20 days.

Estimated Average Burden per Response: Approximately 15 minutes per application.

Estimated Total Annual Burden: 12,563 hours.

Jamal Wilson,
PIA Project Lead | In-Service Performance and Sustainment (AJM-4220), Federal Aviation Administration.

[FR Doc. 2023-11041 Filed 5-23-23; 8:45 am]

BILLING CODE 4910-13-P